FEDERAL COMMUNICATIONS COMMISSION

47 CFR Part 73

[MB Docket No. 20-340; RM-11865; DA 20-1425; FRS 17287]

Television Broadcasting Services; Minneapolis, Minnesota.

AGENCY: Federal Communications Commission.

ACTION: Final rule.

SUMMARY: The Media Bureau, Video Division (Bureau) has before it a Notice of Proposed Rulemaking issued in response to a petition for rulemaking filed by Multimedia Holdings Corporation (Multimedia), licensee of KARE, channel 11, Minneapolis, Minnesota, requesting the substitution of channel 31 for channel 11 at Minneapolis in the DTV Table of Allotments. The Bureau had instituted a freeze on the acceptance of rulemaking petitions by full power television stations requesting channel substitutions in May 2011 and waived the freeze to consider Multimedia's proposal to substitute channel 31 at Minneapolis. TEGNA, Inc., filed comments in support of the petition reaffirming its commitment to applying for channel 31. The Bureau believes the public interest would be served by the substitution and will permit the station to better serve its viewers, who have experienced reception problems with VHF channel 11.

DATES: Effective January 14, 2021.

FOR FURTHER INFORMATION CONTACT: Joyce Bernstein, Media Bureau, at Joyce.Bernstein@fcc.gov.

SUPPLEMENTARY INFORMATION: This is a synopsis of the Commission's Report and Order, MB Docket No. 20-340; RM-11865; DA 20-1425, adopted December 2, 2020, and released December 2, 2020. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—Radio Broadcast Service

1. The authority citation for part 73 continues to read as follows:

Authority: 47 U.S.C. 154, 303, 334, 336, and 339.

§ 73.622 [Amended]

2. In § 73.622(i), amend the Post-Transition Table of DTV Allotments, under Minnesota, by removing channel 11 and adding channel 31 at Minneapolis.

[FR Doc. 2020-27277 Filed 1-13-21; 8:45 am]

BILLING CODE 6712-01-P